ENVIRONMENTAL PROTECTION AGENCY

[EPA-HQ-OECA-2013-0316; FRL—9905-47-OEI]

Information Collection Request Submitted to OMB for Review and Approval; Comment Request; NSPS for Onshore Natural Gas Processing Plants (Renewal)

AGENCY: Environmental Protection Agency (EPA).

ACTION: Notice.

SUMMARY: The Environmental Protection Agency has submitted an information collection request (ICR), “NSPS for Onshore Natural Gas Processing Plants (40 CFR Part 60, Subparts KKK and LLL) (Renewal)” (EPA ICR No. 1086.10, OMB Control No. 2060-0120), to the Office of Management and Budget (OMB) for review and approval in accordance with the Paperwork Reduction Act (44 U.S.C. 3501 et seq). This is a proposed extension of the ICR, which is currently approved through March 31, 2014. Public comments were previously requested via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 18, 2014.

ADDRESSES: Submit your comments, referencing Docket ID Number EPA-HQ-OECA-2013-0316, to: (1) EPA online, using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP (40 CFR part 60, subpart A), and any changes, or additions, to the Provisions are specified at 40 CFR part 60, subparts KKK and LLL. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semi-annually at a minimum.

Form Numbers: None.

Respondents/affected entities: Owners or operators of onshore natural gas processing plants.

Respondent's obligation to respond: Mandatory (40 CFR part 60, subparts KKK and LLL).

Estimated number of respondents: 577 (total).

Frequency of response: Initially, semiannually and occasionally.

Total estimated burden: 121,646 hours (annually). “Burden” is defined at 5 CFR 1320.3(b).

Total estimated cost: $11,967,480 (per year), includes $68,400 annualized capital or operation & maintenance costs.

Changes in the Estimates: There is a decrease in burden from the OMB Inventory of Approved Burden. This change is attributed to a decrease in the number of affected onshore gas processing facilities subject to subparts KKK and LLL, which was due to the impact of a new NSPS rule, which is subpart OOOO. This ICR merges EPA ICR Numbers 1086.09 and 2438.02 in order to resolve the inconsistencies with the required monitoring, recordkeeping and reporting requirements under these rules, as well as to update the number of existing respondents, resulting from the issuing of the new subpart OOOO. New and modified sources after August 23, 2011, subject to subparts KKK and LLL will now report under subpart OOOO; therefore, this ICR only includes the burden for existing respondents that are subject to the subparts KKK and LLL.

It should be noted that the wage rates in this ICR have been updated resulting in an increase of the cost of labor.

John Moses,
Director, Collection Strategies Division.

[FR Doc. 2014-00724 Filed 1-15-14; 8:45 am]

BILLING CODE 6560-50-P